INTERNATIONAL TRADE COMMISSION

[Investigation No. 337-TA-1405]

Certain Wi-Fi Access Points, Routers, Range Extenders, Controllers and Components Thereof; Notice of a Commission Determination Not To Review an Initial Determination Terminating the Investigation in Its Entirety Based on Settlement; Termination of Investigation

AGENCY: U.S. International Trade Commission.

ACTION: Notice.

SUMMARY: Notice is hereby given that the U.S. International Trade Commission (“Commission”) has determined not to review an initial determination (“ID”) (Order No. 14) of the presiding administrative law judge (“ALJ”), terminating the investigation in its entirety based on settlement. The investigation is terminated.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on June 20, 2024, based on a complaint filed by TP-Link USA Corporation of Irvine, California, and TP-Link Corporation PTE Ltd. of Singapore. 89 FR 51899 (June 20, 2024). The complaint, as supplemented, alleges violations of section 337 of the Tariff Act of 1930, as amended, 19 U.S.C. 1337, in the importation into the United States, the sale for importation, or the sale within the United States after importation of certain wi-fi access points, routers, range extenders, controllers and components thereof by reason of infringement of certain claims of U.S. Patent No. 7,636,550; U.S. Patent No. 8,176,148; U.S. Patent No. 8,229,357; U.S. Patent No. 7,672,268; and U.S. Patent No. 8,774,008. Id. The complaint further alleges that a domestic industry exists. Id. The Commission's notice of investigation named as respondent Netgear Inc. of San Jose, CA. Id. The Office of Unfair Import Investigations is not participating in the investigation. Id.

On September 26, 2024, the ALJ issued Order No. 14, the subject ID, which granted the parties' joint motion to terminate the investigation in its entirety based on settlement. The ID found that the motion complied with the requirements of Commission Rule 210.21(b) and that termination of the investigation will not adversely affect the public interest. No petitions for review of the ID were filed.

The Commission has determined not to review the subject ID.

The investigation is hereby terminated in its entirety.

The Commission vote for this determination took place on October 25, 2024.

The authority for the Commission's determination is contained in section 337 of the Tariff Act of 1930, as amended (19 U.S.C. 1337), and in part 210 of the Commission's Rules of Practice and Procedure (19 CFR part 210).

By order of the Commission.
Issued: October 28, 2024.
Lisa Barton,
Secretary to the Commission.

[FR Doc. 2024-25414 Filed 10-31-24; 8:45 am]

BILLING CODE 7020-02-P